NATIONAL SCIENCE FOUNDATION

Advisory Committee for Computer and Information Science and Engineering; Notice of Meeting

In accordance with the Federal Advisory Committee Act (Pub. L. 92-463, as amended), the National Science Foundation announces the following meeting:

Name: Advisory Committee for Computer and Information Science and Engineering—(1115).

Date and Time: October 20, 2005, 8:30 a.m.-7 p.m. October 21, 2005, 8:30 a.m.-2 p.m.

Place: Computer History Museum, 1401 N. Shoreline Blvd., Mountain View, CA 94043.

Type of Meeting: Open.

Contact Person: Gwen Barber-Blount, Office of the Assistant Director, Directorate for Computer and Information Science and Engineering, National Science Foundation, 4201 Wilson Blvd., Suite 1105, Arlington, VA 22230. Telephone: (703) 292-8900.

Minutes: May be obtained from the contact person listed above.

Purpose of Meeting: To advise NSF on the impact of its policies, programs and activities on the CISE community. To provide advice to the Assistant Director/CISE on issues related to long-range planning, and to form ad hoc subcommittees to carry out needed studies and tasks.

Agenda: Report from the Assistant Director. Discussion of education, diversity, workforce issues in IT; cyberinfrastructure; long-range founding outlook and proposal success rates.

Dated: September 20, 2005.
Susanne Bolton,
Committee Management Officer.

[FR Doc. 05-19080 Filed 9-23-05; 8:45 am]

BILLING CODE 7555-01-M